NUCLEAR REGULATORY COMMISSION

[NRC-2020-0170]

Information Collection: Reactor Site Criteria

AGENCY: Nuclear Regulatory Commission.

ACTION: Renewal of existing information collection; request for comment.

SUMMARY: The U.S. Nuclear Regulatory Commission (NRC) invites public comment on the renewal of Office of Management and Budget (OMB) approval for an existing collection of information. The information collection is entitled, “Reactor Site Criteria.”

DATES: Submit comments by February 8, 2021. Comments received after this date will be considered if it is practical to do so, but the Commission is able to ensure consideration only for comments received on or before this date.

ADDRESSES: You may submit comments by any of the following methods; however, the NRC encourages electronic comment submission through the Federal Rulemaking website:

• Federal Rulemaking website: Go to https://www.regulations.gov/ and search for Docket ID NRC-2020-0170. Address questions about NRC docket IDs in Regulations.gov to Jennifer Borges; telephone: 301-287-9127; email: Jennifer.Borges@nrc.gov. For technical questions, contact the individual listed in the FOR FURTHER INFORMATION CONTACT section of this document.

• Mail comments to: David Cullison, Office of the Chief Information Officer, Mail Stop: T-6 A10M, U.S. Nuclear Regulatory Commission, Washington, DC 20555-0001.

For additional direction on obtaining information and submitting comments, see “Obtaining Information and Submitting Comments” in the SUPPLEMENTARY INFORMATION section of this document.

FOR FURTHER INFORMATION CONTACT: David Cullison, Office of the Chief Information Officer, U.S. Nuclear Regulatory Commission, Washington, DC 20555-0001; telephone: 301-415-2084; email: Infocollects.Resource@nrc.gov.

SUPPLEMENTARY INFORMATION:

I. Obtaining Information and Submitting Comments

A. Obtaining Information

Please refer to Docket ID NRC-2020-0170 when contacting the NRC about the availability of information for this action. You may obtain publicly available information related to this action by any of the following methods:

• Federal Rulemaking website: Go to https://www.regulations.gov/ and search for Docket ID NRC-2020-0170. A copy of the collection of information and related instructions may be obtained without charge by accessing Docket ID NRC-2020-0170 on this website.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. A copy of the collection of information and related instructions may be obtained without charge by accessing ADAMS Accession No. ML20210M335. The supporting statement is available in ADAMS under Accession No. ML20210M358.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.Resource@nrc.gov.

B. Submitting Comments

The NRC encourages electronic comment submission through the Federal Rulemaking website (https://www.regulations.gov). Please include Docket ID NRC-2020-0170 in your comment submission.

The NRC cautions you not to include identifying or contact information in comment submissions that you do not want to be publicly disclosed in your comment submission. All comment submissions are posted at https://www.regulations.gov/ and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

In accordance with the Paperwork Reduction Act of 1995 (44 U.S.C. chapter 35), the NRC is requesting public comment on its intention to request the OMB's approval for the information collection summarized below.

1. The title of the information collection: 10 CFR part 100, Reactor Site Criteria.

2. OMB approval number: 3150-0093.

3. Type of submission: Extension.

4. The form number, if applicable: N/A.

5. How often the collection is required or requested: As necessary in order for the NRC to assess the adequacy of proposed seismic design bases and the design bases for other site hazards for nuclear power and test reactors constructed and licensed in accordance with parts 50 and 52 of title 10 of the Code of Federal Regulations (10 CFR) and the Atomic Energy Act of 1954, as amended.

6. Who will be required or asked to respond: Applicants who apply for an early site permit (ESP), combined license (COL) or a construction permit (CP) or operating license (OL) on or after January 10, 1997.

7. The estimated number of annual responses: 0.66.

8. The estimated number of annual respondents: 0.66.

9. The estimated number of hours needed annually to comply with the information collection requirement or request: 48,180 hours (73,000 hours per application × 0.66 applications).

10. Abstract: 10 CFR part 100, “Reactor Site Criteria,” establish approval requirements for proposed sites for the purpose of constructing and operating stationary power and testing reactors. Subpart B, “Evaluation Factors for Stationary Power Reactor Site Applications on or After January 10, 1997,” requirements apply to applicants who apply for an early site permit (ESP), combined license (COL) or a construction permit (CP) or operating license (OL) on or after January 10, 1997. This clearance is necessary since the NRC is expecting approximately two COL applications over the next 3 years. The applicants must provide information regarding the physical characteristics of the site in addition to the potential for natural phenomena and man-made hazards. This includes information on meteorological hazards (such as hurricanes, tornadoes, snowfall, and extreme temperatures), hydrologic hazards (such as floods, tsunami, and seiches) geologic hazards (such as faulting, seismic hazards, and the maximum credible earthquake) and factors such as population density, the proximity of man-related hazards (e.g., airports, dams, transportation routes, military and chemical facilities), and site hydrological and atmospheric dispersion characteristics. The NRC staff reviews the submitted information and, if necessary, generates a request for additional information. The staff meets with the applicant and conducts a site visit to resolve any open issues. When the open issues have been resolved, the staff writes the final safety evaluation report, which is published and used as a basis for the remainder of the NRC licensing process.

III. Specific Requests for Comments

The NRC is seeking comments that address the following questions:

1. Is the proposed collection of information necessary for the NRC to properly perform its functions? Does the information have practical utility?

2. Is the estimate of the burden of the information collection accurate?

3. Is there a way to enhance the quality, utility, and clarity of the information to be collected?

4. How can the burden of the information collection on respondents be minimized, including the use of automated collection techniques or other forms of information technology?

Dated: December 4, 2020.
For the Nuclear Regulatory Commission.
David C. Cullison,
NRC Clearance Officer, Office of the Chief Information Officer.

[FR Doc. 2020-27062 Filed 12-9-20; 8:45 am]

BILLING CODE 7590-01-P